DEPARTMENT OF VETERANS AFFAIRS

VA Vocational Rehabilitation and Employment Task Force; Notice of Meeting

The Department of Veterans Affairs (VA) gives notice under Public Law 92-463 (Federal Advisory Committee Act) that a meeting of the VA Vocational Rehabilitation and Employment (VR&E) Task Force will be held on Thursday, May 29, 2003, from 9 a.m. to 5 p.m., and on Friday, May 30, 2003, from 9 a.m. to 2 p.m., in Room 230, Department to Veterans Affairs, 810 Vermont Avenue, NW., Washington, DC. The meeting is open to the public.

The purpose of the Task Force is to conduct an independent review of the VR&E Program within the Veterans Benefits Administration (VBA). The Task Force will provide recommendations to the Secretary of Veterans Affairs on improving the Department's ability to provide comprehensive services and assistance to veterans with service-connected disabilities and employment handicaps in becoming employable, and obtaining and maintaining suitable employment. The Task Force will also assess independent living services provided by VBA.

Both sessions of the May 29-30 meeting will focus on briefings for Task Force members by providers of vocational rehabilitation services and those who oversee VA's delivery of vocational rehabilitation and employment services. On May 29, presentations will be made by the General Accounting Office, VA's Office of Inspector General, congressional committee staff and the State Directors of Veterans Affairs. On May 30, the Task Force will be briefed by the Department of Labor, Department of Education and VA's Veterans Health Administration and Veterans Benefits Administration.

No time will be allocated for receiving oral presentations from the public. Interested parties who wish to attend the meeting should have adequate identification for entry into the building and will be subject to a security screening process. Members of the public may submit written comments for review by the Committee to: Mr. John O'Hara, Executive Director, VA Vocational Rehabilitation and Employment Task Force, VA Office of Policy, Planning, and Preparedness (008B), 810 Vermont Avenue, NW., Washington, DC 20420. Mr. O'Hara can be reached at (202) 273-5130; fax number (202) 273-5991 and e-mail address john.o'hara@mail.va.gov.

Dated: May 9, 2003.
By Direction of the Secretary:
E. Philip Riggin,
Committee Management Officer.

[FR Doc. 03-12249 Filed 5-15-03; 8:45 am]

BILLING CODE 8320-01-M